DEPARTMENT OF ENERGY

Federal Energy Regulatory Commission

[Docket No. RP00-21-006]

Dominion Transmission, Inc; Notice of Compliance Filing

July 7, 2000.

Take notice that on June 30, 2000, Dominion Transmission, Inc. (DTI), formerly CNG Transmission Corporation tendered for filing as part of its FERC Gas Tariff, Second Revised Volume No. 1, tariff sheets in compliance with the Commission's order issued June 29, 2000, in this proceeding and moved such tariff sheets into effect.

DTI states that the filing would implement two new rate schedules. Rate Schedules Delivery Point Operator (DPO) and City Gate Swing Customer (CSC). Rate Schedule DPO is designed primarily to allow operators of citygate interconnections with DTI to offer no-notice service to retail markets behind the citygate and their service providers. Rate Schedule CSC, a companion service to Rate Schedules DPO, is designed to all customers behind the citygate to receive no-notice service from DTI under certain terms and conditions.

DTI states that the revised tariff tariff sheets and compliance filing satisfy the conditions of the Commission's June 29, 2000, order in this proceeding.

DTI's filing also includes a motion to make the DPO and CSC tariff sheets effective on July 1, 2000.

DTI states that copies of its filing have been served upon all parties on the official service lists DTI's customers customers and interested state commissions.

Any person desiring to be heard or to protest said filing should file a motion to intervene or a protest with the Federal Energy Regulatory Commission, 888 First Street, N.E., Washington, D.C. 20426, in accordance with Section 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at htt.//www.ferc.fed.us/online/rims.htm (call 202-208-2222 for assistance).

David P. Boergers,
Secretary.

[FR Doc. 00-17741 Filed 7-12-00; 8:45 am]

BILLING CODE 6717-01-M